DEPARTMENT OF COMMERCE

International Trade Administration

[A-201-844]

Steel Concrete Reinforcing Bar From Mexico: Amended Final Results of Antidumping Duty Administrative Review; 2022-2023

AGENCY: Enforcement and Compliance, International Trade Administration, Department of Commerce.

SUMMARY: The U.S. Department of Commerce (Commerce) is amending the final results of the administrative review of the antidumping duty (AD) order on steel concrete reinforcing bar (rebar) from Mexico to correct certain ministerial errors. The period of review (POR) is November 1, 2022, through October 31, 2023.

DATES: Applicable February 20, 2026.

FOR FURTHER INFORMATION CONTACT: Kyle Clahane, AD/CVD Operations, Office III, Enforcement and Compliance, International Trade Administration, U.S. Department of Commerce, 1401 Constitution Avenue NW, Washington, DC 20230; telephone: (202) 482-5449.

SUPPLEMENTARY INFORMATION:

Background

On September 4, 2025, Commerce published the Final Results of the administrative review of the AD order on rebar from Mexico in the Federal Register.¹ On September 15, 2025, we received timely filed allegations of ministerial errors from Deacero S.A.P.I. de C.V. and I.N.G.E.T.E.K.N.O.S. Estructurales, S.A. de C.V. (collectively, the Deacero Group), the mandatory respondent in this administrative review,² and the Rebar Trade Action Coalition (RTAC) (the petitioners).³ On September 22, 2025, we received timely filed rebuttal comments from the petitioners.⁴ We are amending the Final Results to correct certain ministerial errors raised by the petitioners.⁵

¹ See Steel Concrete Reinforcing Bar from Mexico: Final Results of Antidumping Duty Administrative Review; 2022-2023, 90 FR 42740 (September 2, 2025) (Final Results), and accompanying Issues and Decision Memorandum.

² See Deacero Group's Letter, “Ministerial Error Comments,” dated September 15, 2025 (Deacero Group Ministerial Error Allegation); see also Petitioners' Letter, “RTAC's Ministerial Error Allegations,” dated September 15, 2025 (Petitioners' Ministerial Error Allegations).

³ See Petitioners' Letter, “RTAC's Rebuttal Ministerial Error Allegations,” dated September 22, 2025 (Petitioners' Rebuttal Ministerial Error Allegations).

⁴ See Petitioners' Letter, “Petitioners' Response to OARC's Ministerial Error Allegations,” dated September 22, 2025.

⁵ See Memorandum, “Analysis of Ministerial Error Allegations,” dated concurrently with this notice (Ministerial Error Memorandum).

Due to the lapse in appropriations and Federal Government shutdown, on November 14, 2025, Commerce tolled all deadlines in administrative proceedings by 47 days.⁶ Additionally, due to a backlog of documents that were electronically filed via Enforcement and Compliance's Antidumping and Countervailing Duty Centralized Electronic Service System (ACCESS) during the Federal Government shutdown, on November 24, 2025, Commerce tolled all deadlines in administrative proceedings by an additional 21 days.⁷

⁶ See Memorandum, “Deadlines Affected by the Shutdown of the Federal Government,” dated November 14, 2025.

⁷ See Memorandum, “Tolling of all Case Deadlines,” dated November 24, 2025.

Legal Framework

Section 751(h) of the Tariff Act of 1930, as amended (the Act), defines a “ministerial error” as including “errors in addition, subtraction, or other arithmetic function, clerical errors resulting from inaccurate copying, duplication, or the like, and any other unintentional error which the administering authority considers ministerial.” ⁸ With respect to final results of administrative reviews, 19 CFR 351.224(e) provides that Commerce “will analyze any comments received and, if appropriate, correct any . . . ministerial error by amending the final results of review. . . .”

⁸ See 19 CFR 351.224(f).

Ministerial Errors

In its ministerial error comments, the Deacero Group alleged that Commerce made ministerial errors in its: (1) application of partial adverse facts available (AFA) for certain international freight expenses; and (2) its application of partial AFA to indirect selling expenses.⁹ In its allegation, the petitioners argued that Commerce's application of partial AFA to the Deacero Group's U.S. freight was inaccurate.¹⁰ In the ministerial error rebuttal comments, the petitioners argued that the Deacero Group's ministerial error allegations concerning freight and indirect selling expenses were untimely alleged and not ministerial in nature.¹¹

⁹ See Deacero Group Ministerial Error Allegation at 2-9.

¹⁰ See Petitioners' Ministerial Error Allegations at 4-6.

¹¹ See Petitioners' Rebuttal Ministerial Error Allegations at 4-6.

We agree with the petitioners that we made a ministerial error regarding the application of AFA to the Deacero Group's U.S. freight expenses in the Final Results, pursuant to section 751(h) of the Act and 19 CFR 351.224(f), and have amended our calculations to correct this error.¹² Regarding the Deacero Group's allegations concerning the application of AFA to indirect selling expenses and certain international freight expenses, we disagree that these allegations constitute ministerial errors within the meaning of 19 CFR 351.224(f). Accordingly, we have not amended our calculations with respect to these allegations.

¹² See Memorandum, “Antidumping Duty Administrative Review of Steel Concrete Reinforcing Bar from Mexico; 2022-2023: Analysis of Ministerial Error Allegations,” dated concurrently with, and hereby adopted by, this notice (Ministerial Error Memorandum).

For a complete discussion of the ministerial error allegations, as well as Commerce's analysis, see the Ministerial Error Memorandum.¹³ The Ministerial Error Memorandum is a public document and is on file electronically via ACCESS. ACCESS is available to registered users at https://access.trade.gov.

¹³ Id.

Amended Final Results of Review

As a result of correcting the ministerial error described above, we determine the following estimated weighted-average dumping margin for the period November 1, 2022, through October 31, 2023:

Exporter/producer | Weighted- average dumping margin (percent)
Deacero S.A.P.I. de C.V./I.N.G.E.T.E.K.N.O.S. Estructurales, S.A. de C.V | 36.34

Disclosure

We intend to disclose the calculations performed in connection with these amended final results of review to parties in this review within five days of the date of publication of this notice in the Federal Register, in accordance with 19 CFR 351.224(b).

Assessment Rates

Normally, Commerce would issue assessment instructions to U.S. Customs and Border Protection (CBP) no earlier than 41 days after the date of publication of the amended final results of this review in the Federal Register. However, in this case, a timely request for panel review under the United States-Mexico-Canada Agreement has been filed, and a suspension of liquidation is in place. Therefore, we will not issue assessment instructions until the suspension of liquidation has been lifted. When the suspension of liquidation lifts such that we can issue assessment instructions, and where the respondent reported the entered value of its U.S. sales, we calculated importer-specific AD assessment rates by aggregating the total amount of dumping calculated for the examined sales of each importer and dividing each of these amounts by the total entered value associated with those sales.¹⁴ Where the respondent did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either the respondent's weighted-average dumping margin is zero or de minimis within the meaning of 19 CFR 351.106(c)(1), or an importer-specific assessment rate is zero or de minimis, we will instruct CBP to liquidate the appropriate entries without regard to antidumping duties.

¹⁴ See 19 CFR 351.212(b)(1).

Consistent with Commerce's assessment practice, for entries of subject merchandise during the POR produced by the Deacero Group for which the producer did not know that its merchandise was destined for the United States, we will instruct CBP to liquidate unreviewed entries at the all-others rate if there is no rate for the intermediate company(ies) involved in the transaction.¹⁵

¹⁵ For a full discussion of this practice, see Antidumping and Countervailing Duty Proceedings: Assessment of Antidumping Duties, 68 FR 23954 (May 6, 2003).

Cash Deposit Requirements

The following amended cash deposit requirements will be effective for all shipments of the subject merchandise entered, or withdrawn from warehouse, for consumption on or after the publication date of these amended final results of this administrative review, as provided by section 751(a)(2)(C) of the Act: (1) the cash deposit rate for the Deacero Group will be equal to the weighted-average dumping margin established in the amended final results of this administrative review; (2) for previously reviewed or investigated companies not participating in this review, the cash deposit rate will continue to be the company-specific rate published for the most recently completed segment of this proceeding in which the producer or exporter participated; (3) if the exporter is not a firm covered in this review, a prior review, or the original investigation but the producer is, the cash deposit rate will be the rate established for the most recently completed segment of this proceeding for the producer of the subject merchandise; and (4) the cash deposit rate for all other producers or exporters will continue to be 20.58 percent, the rate established in the less-than-fair-value investigation.¹⁶ These cash deposit requirements, when imposed, shall remain in effect until further notice.

¹⁶ See Steel Concrete Reinforcing Bar from Mexico: Antidumping Duty Order, 79 FR 65925, 65926 (November 6, 2014).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a reminder to parties subject to an APO of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these amended final results in accordance with sections 751(h) and 777(i) of the Act, and 19 CFR 351.224(e).

Dated: February 13, 2026.
Christopher Abbott,
Deputy Assistant Secretary for Policy and Negotiations, performing the non-exclusive functions and duties of the Assistant Secretary for Enforcement and Compliance.

[FR Doc. 2026-03339 Filed 2-19-26; 8:45 am]

BILLING CODE 3510-DS-P